FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

721 Logistics LLC (NVO & OFF), 300 Stevens Drive, Lester, PA 19113, Officer: Lawrence Antonucci, Member (QI), Application Type: New NVO and OFF License.

Acme International Auto Transport, LLC (OFF), 134 Laguna Bay, Lewisville, TX 75067, Officers: Coburn S. Cutshall, Director International Division (QI), Richard S. Gay, Manager, Application Type: New OFF License.

A-Sonic Logistics (USA), Inc. (NVO & OFF), 71 South Central Avenue, Suite 300, Valley Stream, NY 11580, Officers: Cheng Y. Lai, Secretary (QI), Janet L. Tan, President, Application Type: QI Change.

Aya Logistics Inc. (NVO & OFF), 1260 Lunt Avenue, Elk Grove Village, IL 60007, Officers: Yan P. Meng, Treasurer (QI), Xiqian (Steven) Wei, President, Application Type: Add Trade Names City Union Logistics Co. Ltd & A. Yuan Logistics Inc.

Cala Distribution, LLC (NVO & OFF), 1200 Brickell Avenue, Suite 1700, Miami, FL 33131, Officers: Maria J. Cabreja, Operation Manager (QI), Daniel Toledano, Manager, Application Type: QI Change.

Den Hartogh Americas Inc. (NVO), 6021 Fairmont Parkway, Suite 140, Pasadena, TX 77505, Officers: Brenda Gonzalez, Vice President (QI), Pieter den Hartogh, President, Application Type: QI Change.

Global Voyage, LLC (OFF), 2567 North Forsyth Road, Suite 1, Orlando, FL 32807, Officers: Jocelyn Kassem, Manager (QI), Bassel Kassem, Manager, Application Type: New OFF License.

HJM Int'l Corp. (NVO), 153-39 Rockaway Blvd., Jamaica, NY 11434, Officer: Henry Mandil, President (QI), Application Type: Add OFF Service.

Horizon Lines of Guam, LLC dba Horizon Lines Express (NVO), 4064 Colony Road, Suite 200, Charlotte, NC 28211, Officers: Geoffrey Thurston, Vice President (QI), William A. Hamlin, President, Application Type: QI Change.

Impex Trans-port, Inc. (OFF), 6999-2 Merrill Road, Suite 304, Jacksonville, FL 32211, Officer: David D. Kudley, President (QI), Application Type: New OFF License.

Korea Express U.S.A. Inc. dba Korea Express Lines (NVO & OFF), 901 Castle Road, Secaucus, CA 07094, Officer: Tony Chon, Assistant Secretary, (QI), Sang Lee, President, Application Type: Name Change to CJ Korea Express U.S.A. Corporation.

OK to Ship Inc. (NVO), 917 Hutchinson Court, Brooklyn, NY 11223, Officer: Choua Mandil, President (QI), Application Type: Add OFF Service.

Randi Moreau-Sipiere dba Centurion Export (OFF), 1325 FM 1567 E, Como, TX 75431, Officer: Randi Moreau-Sipiere, Sole Proprietor (QI), Application Type: New OFF License.

Royal Port Container Lines Inc (NVO & OFF), 295 Durham Avenue, Suite 209, South Plainfield, NJ 07080, Officer: Muhammad M. Bhatti, Director (QI), Application Type: New NVO & OFF License.

TKL Logistics, Inc. (OFF), 137 Horizon Circle, Azle, TX 76020, Officer: Terry L. Locke, President (QI), Application Type: New OFF License.

Ventech Inc. dba TDT Cargo (NVO & OFF), 7774 NW 46th Street, Miami, FL 33166, Officer: Juan C. Tovar, President (QI), Daniela Gonzalez, Vice President, Application Type: Name Change to Trending Exports, Inc.

By the Commission.
Dated: June 27, 2014.
Karen V. Gregory,
Secretary.

[FR Doc. 2014-15544 Filed 7-2-14; 8:45 am]

BILLING CODE P